DEPARTMENT OF EDUCATION

Office of Vocational and Adult Education (OVAE); Notice Reopening the Tribally Controlled Postsecondary Career and Technical Institutions Program (TCPCTIP) Fiscal Year (FY) 2007 Competition

Catalog of Federal Domestic Assistance (CFDA) Number: 84.245.

SUMMARY: On May 15, 2007 we published in the Federal Register (72 FR 27297) a notice inviting applications for the TCPCTIP for new awards for FY 2007. The May 15, 2007 notice for this FY 2007 competition established a June 14, 2007, deadline date for eligible applicants to apply for funding under the TCPCTIP.

In order to afford as many eligible applicants as possible an opportunity to receive funding under this program, we are reopening the TCPCTIP FY 2007 competition. The new application deadline date for this competition is July 9, 2007. Applicants must refer to the original notice inviting applications for this program that was published in the Federal Register (72 FR 27297) for all other requirements concerning this reopened competition.

DATES: Deadline for Transmittal of Applications: July 9, 2007 by 4:30 Washington, DC time for an electronic submission.

Submission of Applications: Applications for grants under this program may be submitted electronically using the Grants.gov Apply site (Grants.gov), or in paper format by mail or hand delivery. For information about how to submit your application electronically, or by mail or hand delivery, please refer to section IV. 6.

Other Submission Requirements in the original TCPCTIP May 15, 2007 notice inviting applications.

Note: You can access the electronic application, along with complete instructions for applying via Grants.gov, for the TCPCTIP at: http://www.Grants.gov/ Once you access this site, you will receive specific instructions for completing your application and the electronic submission process. You must follow these requirements to ensure that your electronic application is received by the Department no later than 4:30 p.m., Washington, DC time, on the new application deadline date.

FOR FURTHER INFORMATION CONTACT: Lois Davis, U.S. Department of Education, 400 Maryland Avenue, SW., Room 11063, Potomac Center Plaza, Washington, DC 20202-7241. Telephone: (202) 245-7784 or e-mail: Lois.Davis@ed.gov.

If you use a telecommunications device for the deaf (TDD), you may call the Federal Relay Service (FRS) at 1-800-877-8339.

Individuals with disabilities may obtain this document in an alternative format (e.g., Braille, large print, audiotape, or computer diskette) on request to the program contact person listed in this section.

SUPPLEMENTARY INFORMATION: Any eligible applicant may apply for funding under this program by the new application deadline date announced in this notice. Eligible applicants that submitted their applications for the TCPCTIP FY 2007 competition to the Department by the competition's original deadline date of June 14, 2007 may, but are not required to, re-submit their applications or re-apply in order to be considered for FY 2007 awards under this program. We encourage eligible applicants that have not submitted applications already to submit their applications as soon as possible. The deadline for submission of applications in this competition will not be extended any further.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: June 27, 2007.
Troy R. Justesen,
Assistant Secretary for Vocational and Adult Education.

[FR Doc. E7-12759 Filed 6-29-07; 8:45 am]

BILLING CODE 4000-01-P